DEPARTMENT OF HEALTH AND HUMAN SERVICES

National Institutes of Health

Center for Scientific Review; Amended Notice of Meeting

Notice is hereby given of a change in the meeting of the Mechanisms of Sensory, Perceptual, and Cognitive Processes Study Section, October 03, 2013, 08:00 a.m. to October 04, 2013, 05:30 p.m., Melrose Hotel, 2430 Pennsylvania Ave. NW., Washington, DC 20037 which was published in the Federal Register on September 10, 2013, 78 FR 55266-55267.

The meeting will be held at the Bahia Hotel, 998 W. Mission Bay Drive, San Diego, CA 92109 on November 8, 2013, starting at 08:00 a.m. and ending at 06:00 p.m. The meeting is closed to the public.

Dated: October 25, 2013.
Carolyn A. Baum,
Program Analyst, Office of Federal Advisory Committee Policy.

[FR Doc. 2013-25683 Filed 10-29-13; 8:45 am]

BILLING CODE 4140-01-P